DEPARTMENT OF VETERANS AFFAIRS

Veterans’ Disability Benefits Commission; Notice of Meeting

The Department of Veterans Affairs (VA) gives notice under Public Law 92-463 (Federal Advisory Committee Act) that the Veterans’ Disability Benefits Commission has scheduled a meeting for September 19-21, 2007, at the Washington Plaza Hotel, 10 Thomas Circle, NW., Washington, DC. On Wednesday, September 19, the session will begin at 10 a.m. and end at 5 p.m. On Thursday, September 20, the session will begin at 8:30 a.m. and end at 5 p.m. On Friday, September 21, the session will begin at 8:30 a.m. and end at 12 noon. The meeting is open to the public.

The purpose of the Commission is to carry out a study of the benefits under the laws of the United States that are provided to compensate and assist veterans and their survivors for disabilities and deaths attributable to military service.

The agenda for this meeting will feature ongoing review, discussions and decisions by the Commission as it continues the process of assembling its final report. There will be time set aside for public comments. Interested persons may attend and present oral statements to the Commission on September 19. Oral presentations will be limited to five minutes or less. Interested parties may also provide written comments for review by the Commission prior to the meeting, by e-mail to veterans@vetscommission.com or by mail to Mr. Ray Wilburn, Executive Director, Veterans’ Disability Benefits Commission, 1101 Pennsylvania Avenue, NW., 5th Floor, Washington, DC 20004.

Dated: August 22, 2007.
By Direction of the Secretary.
E. Philip Riggin,
Committee Management Officer.

[FR Doc. 07-4239 Filed 8-28-07; 8:45 am]

BILLING CODE 8320-01-M